DEPARTMENT OF JUSTICE

Bureau of Alcohol, Tobacco, Firearms and Explosives

[OMB Number 1140-0015]

Agency Information Collection Activities; Proposed eCollection of eComments Requested; Application for Tax Exempt Transfer and Registration of Firearm—ATF Form 5 (5320.5); Extension With Change of a Currently Approved Collection

AGENCY: Bureau of Alcohol, Tobacco, Firearms and Explosives, Department of Justice

ACTION: 30-Day notice.

SUMMARY: The Bureau of Alcohol, Tobacco, Firearms and Explosives (ATF), Department of Justice (DOJ) will submit the following information collection request to the Office of Management and Budget (OMB) for review and approval in accordance with the Paperwork Reduction Act of 1995. The proposed information collection (IC) OMB 1140-0015 (Application for Tax Exempt Transfer and Registration of Firearm—ATF Form 5 (5320.5) is being updated to include minor changes due to the Bipartisan Safer Communities Act. These include updates to the instructions and questions regarding prohibited persons, adjustments to the definitions of misdemeanor crime of domestic violence and adjudicated mentally defective, and the resolution of other grammatical errors and formatting changes. The proposed IC is also being published to obtain comments from the public and affected agencies.

DATES: Comments are encouraged and will be accepted for an additional 30 days until September 30, 2022.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate whether and, if so, how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: Extension with Change of a Currently Approved Collection.

2. The Title of the Form/Collection: Application for Tax Exempt Transfer and Registration of Firearm.

3. The agency form number, if any, and the applicable component of the Department sponsoring the collection:

Form number: ATF Form 5 (5320.5).

Component: Bureau of Alcohol, Tobacco, Firearms and Explosives, U.S. Department of Justice.

4. Affected public who will be asked or required to respond, as well as a brief abstract:

Primary: Federal Government and State, Local or Tribal Government.

Other: Individuals or households, Business or other for-profit, Not-for-profit institutions, and Farms.

Abstract: The Application for Tax Exempt Transfer and Registration of Firearm—ATF Form 5 (5320.5) is used request permission to transfer and register a National Firearms Act (NFA) firearm, and to claim exemption from the transfer tax.

5. An estimate of the total number of respondents and the amount of time estimated for an average respondent to respond: An estimated 10,591 respondents will respond to this collection once annually, and it will take each respondent approximately 30.309 minutes to complete their responses.

6. An estimate of the total public burden (in hours) associated with the collection: The estimated annual public burden associated with this collection is 5,350 hours, which is equal to 10,591 (total respondents) * 1 (# of response per respondent) * .5052 hours (30.309 minutes or the time taken to prepare each response).

If additional information is required contact: Robert Houser, Assistant Director, Policy and Planning Staff, Office of the Chief Information Officer, Justice Management Division, United States Department of Justice, Two Constitution Square, 145 N Street NE, 3E-206, Washington, DC 20530.

Dated: August 25, 2022.
Robert Houser,
Assistant Director, Policy and Planning Staff, Office of the Chief Officer, U.S. Department of Justice.

[FR Doc. 2022-18758 Filed 8-30-22; 8:45 am]

BILLING CODE 4410-FY-P